DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 21, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: Small Business Innovation Research (SBIR)/Small Business Technology Transfer (STTR) Programs to Request a New Lifecycle Certification Form.

OMB Control Number: 0524-New.

Summary of Collection: The Small Business Innovation Research (SBIR)/Small Business Technology Transfer (STTR) programs at the U.S. Department of Agriculture (USDA) make competitively awarded grants to qualified small businesses to support high quality, advanced concepts research related to important scientific problems and opportunities in agriculture that could lead to significant public benefit if successful. The USDA SBIR/STTR Program Office proposes to contact Phase I and II SBIR/STTR awardees to request submission of the Lifecycle Certification form as part of their interim and final reports, as required by the Small Business Administration's “SBA SBIR/STTR Policy Directive,” dated October 1, 2020. In 1982, the Small Business Innovation Research (SBIR) Grants Program was authorized, Public Law 97-219, and in 2022, the BIR and STTR Extension Act of 2022, reauthorized the SBIR and Small Business Technology Transfer (STTR) programs through September 30, 2025.

Need and Use of the Information: The Lifecycle Certification form is used by USDA to ensure Small Business Concerns continue to meet specific program requirements during the life of the Funding Agreement. The Lifecycle Certification form documents grantee compliance with the SBIR/STTR eligibility requirements and is required as part of agency close-out procedures.

Description of Respondents: Individuals.

Number of Respondents: 115.

Frequency of Responses: Reporting: On occasion.

Total Burden Hours: 58.

Ruth Brown,
Departmental Information Collection Clearance Officer.

[FR Doc. 2023-18002 Filed 8-21-23; 8:45 am]

BILLING CODE 3410-09-P